DEPARTMENT OF STATE

22 CFR Part 41

[Public Notice 6378]

Visas: Documentation of Nonimmigrants Under the Immigration and Nationality Act, as Amended

AGENCY: Department of State.

ACTION: Final rule.

SUMMARY: This rule establishes regulatory exceptions to travel restrictions, established in the Tom Lantos Block Burmese JADE Act, that were put in place for Burmese nationals. The rule allows the Department to exempt certain Burmese diplomats and officials from the travel restrictions.

DATES: Effective Date: This rule is effective September 30, 2008.

FOR FURTHER INFORMATION CONTACT: Lawrence B. Kurland, Jr., Legislation and Regulations Division, Visa Services, Department of State, 2401 E Street, NW., Room L-603D, Washington, DC 20520-0106, (202) 663-1202, e-mail (KurlandLB@state.gov).

SUPPLEMENTARY INFORMATION: On July 29, 2008, the President signed into law the Tom Lantos Block Burmese JADE (Junta's Anti-Democratic Efforts) Act of 2008, Public Law 110-286, authorizing a broad range of new measures against the Burmese regime. Among these measures is a new category of visa inadmissibility, detailed in Section 5(a) of the Act. However, the Act permits the Secretary of State to issue, by regulation, exceptions to Section 5(a), in order for the United States and Burma to operate their diplomatic missions, to allow United States citizens to visit Burma, to permit authorized Burmese to conduct business at the United Nations, or as required by other applicable international agreements. Since diplomatic travel must often be approved in a short time frame, it would be impractical to issue a new regulation for each instance of Burmese diplomatic travel. This rule, then, will allow the Secretary to comply with the regulatory requirement set out in Section 5(f)(2) of the Act while making exceptions to Section 5(a) in accordance with Department of State regulations.

Regulatory Findings

Administrative Procedure Act

This regulation involves a foreign affairs function of the United States and, therefore, in accordance with 5 U.S.C. 553(a)(1), is not subject to the rule making procedures set forth in 5 U.S.C. 553.

Regulatory Flexibility Act/Executive Order 13272: Small Business

Because this final rule is exempt from notice and comment rulemaking under 5 U.S.C. 553, it is exempt from the regulatory flexibility analysis requirements set forth at sections 603 and 604 of the Regulatory Flexibility Act (5 U.S.C. 603 and 604). Nonetheless, consistent with section 605(b) of the Regulatory Flexibility Act (5 U.S.C. 605(b)), the Department certifies that this rule will not have a significant economic impact on a substantial number of small entities. This rule regulates individual aliens who seek consideration for nonimmigrant visas and does not affect any small entities, as defined in 5 U.S.C. 601(6).

The Unfunded Mandates Reform Act of 1995

Section 202 of the Unfunded Mandates Reform Act of 1995 (UFMA), 2 U.S.C. 1532, generally requires agencies to prepare a statement before proposing any rule that may result in an annual expenditure of $100 million or more by State, local, or tribal governments, or by the private sector. This rule will not result in any such expenditure, nor will it significantly or uniquely affect small governments.

The Small Business Regulatory Enforcement Fairness Act of 1996

This rule is not a major rule as defined by 5 U.S.C. 804, for purposes of congressional review of agency rulemaking under the Small Business Regulatory Enforcement Fairness Act of 1996, Public Law 104-121. This rule will not result in an annual effect on the economy of $100 million or more; a major increase in costs or prices; or adverse effects on competition, employment, investment, productivity, innovation, or the ability of United States-based companies to compete with foreign based companies in domestic and import markets.

Executive Order 12866

Although this rule is not subject to Executive Order 12866, the Department has reviewed it to ensure its consistency with the regulatory philosophy and principles set forth in the Executive Order, and has determined that the benefits of the rule justify its costs.

Executive Orders 12372 and 13132: Federalism

This regulation will not have substantial direct effects on the States, on the relationship between the national government and the States, or the distribution of power and responsibilities among the various levels of government. Nor will the rule have federalism implications warranting the application of Executive Orders No. 12372 and No. 13132.

Paperwork Reduction Act

This rule does not impose information collection requirements under the provisions of the Paperwork Reduction Act, 44 U.S.C., Chapter 35.

List of Subjects in 22 CFR Part 41

Aliens, Foreign officials, Immigration, Nonimmigrants, Visas.

Accordingly, for the reasons set forth above, 22 CFR part 41 is amended as follows:

PART 41—[AMENDED]

1. The authority citation for part 41 continues to read as follows:

Authority: 8 U.S.C. 1104; Pub. L. 105-277, 112 Stat. 2681-795 through 2681-801; 8 U.S.C. 1185 note (section 7209 of Pub. L. 108-458).

2. Section 41.21 is amended by adding paragraph (d)(4):

§ 41.21 Foreign officials—general.

(d) * * *

(4) Notwithstanding the provisions of Section 5(a) and consistent with Section 5(f)(2) of the Tom Lantos Block Burmese JADE (Junta's Anti-Democratic Efforts) Act of 2008, Public Law 110-286, visas may be issued to visa applicants who are otherwise ineligible for a visa to travel to the United States under section 5(a)(1) of the Act:

(i) To permit the United States and Burma to operate their diplomatic missions, and to permit the United States to conduct other official United States Government business in Burma;

(ii) To permit the United States to comply with the United Nations Headquarters Agreement and other applicable international agreements.

Dated: September 22, 2008.
Janice L. Jacobs,
Assistant Secretary for Consular Affairs, Department of State.

[FR Doc. E8-22956 Filed 9-29-08; 8:45 am]

BILLING CODE 4710-06-P